DEPARTMENT OF STATE

[Public Notice 9060]

60-Day Notice of Proposed Information Collection: R/PPR Research Surveys

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to May 5, 2015.

ADDRESSES: You may submit comments by any of the following methods:

• Web: Persons with access to the Internet may comment on this notice by going to www.Regulations.gov. You can search for the document by entering “Docket Number: DOS-2015-0011” in the Search field. Then click the “Comment Now” button and complete the comment form.

• Email: MillerJL4@state.gov.

• Regular Mail: Send written comments to: Joshua Miller, U.S. Department of State, 2200 C Street NW., Washington, DC 20037.

You must include the DS form number (if applicable), information collection title, and the OMB control number in any correspondence.

FOR FURTHER INFORMATION CONTACT: Direct requests for additional information regarding the collection listed in this notice, including requests for copies of the proposed collection instrument and supporting documents, to Joshua Miller, U.S. Department of State, 2200 C Street NW., Washington, DC 20037, who may be reached on 202-632-3251 or at MillerJL4@state.gov.

SUPPLEMENTARY INFORMATION:

• Title of Information Collection: R/PPR Research Surveys.

• OMB Control Number: None.

• Type of Request: New Collection.

• Originating Office: Office of Policy Planning and Resources for the Undersecretary for Public Diplomacy and Public Affairs—R/PPR.

• Form Number: SV-2015-0003.

• Respondents: General populations of select foreign countries.

• Estimated Number of Respondents: 100,000.

• Estimated Number of Responses: 100,000.

• Average Time per Response: 6 minutes.

• Total Estimated Burden Time: 10,000 hours.

• Frequency: Each country will be surveyed on occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Department of State will be surveying the general populations of select foreign countries. The data DoS collects will be used internally by DoS to determine how its missions can maximize the impact of their public diplomacy resources: DoS analysts will use the data to produce guidance on how budget, personnel, and other resources that drive USG communications to foreign publics can be used more efficiently and effectively. The U.S. Information and Educational Exchange Act of 1948, the State Department Basic Authorities Act of 1956 (in particular, 22 U.S.C. 2732), and the Mutual Educational and Cultural Exchange Act of 1961 give DoS the legal authority to engage in public diplomacy activities, including this data collection.

Methodology

Surveys will be administered by experienced in-country data collection subcontractors who will also clean and weight the data and then transfer the final data file to Department of State for analysis. Sampling strategies will vary by country/data collection subcontractor, but all surveys will employ a sampling and weighting strategy so that the surveys genuinely represent the general populations in terms of their geographic distribution and their demographic characteristics. For each country, the data should have an aggregate margin of error of no more than ±5% at a 95% level of confidence and should be free of any bias.

Dated: February 26, 2015.
Roxanne Cabral,
Director of Policy and Planning, R/PPR, U.S. Department of State.

[FR Doc. 2015-05235 Filed 3-5-15; 8:45 am]

BILLING CODE 4710-45-P